DEPARTMENT OF LABOR

Employment and Training Administration

[TA-W-57,657]

Midas International Corporation, Muffler Corporation of America Division, Hartford Manufacturing Facility, Hartford, WI; Notice of Negative Determination Regarding Application for Reconsideration

By application of November 4, 2005, United Steelworkers of America, Local 2-152 requested administrative reconsideration of the Department's negative determination regarding eligibility to apply for Trade Adjustment Assistance (TAA), applicable to workers and former workers of the subject firm. The denial notice was signed on September 12, 2005, and published in the Federal Register on October 6, 2005 (70 FR 58476).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Midas International Corporation, Muffler Corporation of America Division, Hartford Manufacturing Facility, Hartford, Wisconsin engaged in production of automotive muffler and exhaust products for the aftermarket was denied because the “contributed importantly” group eligibility requirement of Section 222 of the Trade Act of 1974, as amended, was not met, nor was there a shift in production from that firm to a foreign country. The “contributed importantly” test is generally demonstrated through a survey of the workers' firm's customers. The survey revealed no imports of automotive muffler and exhaust products during the relevant period. The subject firm did not import automotive muffler and exhaust products nor did it shift production to a foreign country during the relevant period.

The petitioner states that the affected workers lost their jobs as a result of the subject firm “exiting the manufacturing portion of the business” and its consequent decision to purchase automotive muffler and exhaust products from a different vendor. The petitioner alleges that because this vendor has “120 manufacturing facilities in 25 countries”, there naturally should be imported automotive muffler and exhaust products sold to the subject firm. The petitioner states that because the new vendor is a global producer of automotive muffler and exhaust products, the workers of the subject firm should be eligible for TAA. To support the above allegations, the petitioner attached news articles from companies' websites which contain information on Midas International's new supplier of automotive muffler and exhaust products.

A company official was contacted regarding the above allegations. The company official confirmed what was revealed during the initial investigation. In particular, the official stated that Midas International Corporation's actions in ceasing its production of automotive muffler and exhaust products was a reflection of company's strategic desire to be a retailer, combined with the reduction in the size of the overall market for exhaust systems. The official provided the name of the vendor which supplies automotive muffler and exhaust products to Midas International. This is the same vendor indicated by the petitioner in the request for reconsideration.

The Department conducted a survey of the vendor regarding its manufacturing of automotive muffler and exhaust products. The survey revealed that the majority of automotive mufflers and exhaust products sold to Midas International is manufactured in the United States and only a small fraction of automotive mufflers and exhaust products is imported. Moreover, the survey revealed an insignificant amount of vendor's overall imports of automotive muffler and exhaust products during the relevant time period.

The petitioner also attached abstracts from the publication by the United States International Trade Commission (USITC) which contain information on imports of mufflers and exhaust pipes from 1999 to 2003 and a printout from the USITC website which shows an eight percent increase in U.S. aggregate imports of motor vehicle parts from January through August of 2005 when compared with the same period in 2004.

In order to establish import impact, the Department must consider imports that are like or directly competitive with those produced at the subject firm within a year prior to the date of the petition. Thus the period ending in 2003 is outside of the relevant period as established by the current petition date of July 30, 2005. Information on imports of motor vehicle parts does not provide import information on specific types of motor parts, such as automotive mufflers and exhaust products and thus is also irrelevant in this investigation.

Conclusion

After review of the application and investigative findings, I conclude that there has been no error or misinterpretation of the law or of the facts which would justify reconsideration of the Department of Labor's prior decision. Accordingly, the application is denied.

Signed at Washington, DC, day 13th of December, 2005.
Elliott S. Kushner,
Certifying Officer, Division of Trade Adjustment Assistance.

[FR Doc. E5-7957 Filed 12-27-05; 8:45 am]

BILLING CODE 4510-30-P